ENVIRONMENTAL PROTECTION AGENCY
[ER-FRL-6647-9]
Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 4, 2003 (68 FR 16511).
Draft EISs

ERP No. DNRS-L31004-ID Rating LO, Little Wood River Irrigation District, Gravity Pressurized Delivery System Construction, Funding and U.S. Army COE Section 404 Permit, Townships of 1 North, 1 South and 2 South of Range 21 East of the Boise Merridan, City of Carey, Blaine County, ID.

Summary: EPA recommended that wetland mitigation plans include descriptions of potential off-site mitigation areas, assurances that appropriate hydrology exists and that monies slated for mitigation be bonded until it is demonstrated that wetlands values and function have been adequately replaced. EPA requested that the final EIS include additional information on Environmental Justice analyses and Tribal consultations.
Final EISs

ERP No. F-FHW-F40398-IN Indianapolis Northeast Corridor Transportation Connections Study to Identify Actions to Reduce Expected Year 2025 Traffic Congestion and Enhance Mobility, Between I-69: from I-465 to IN-328; I-465: from U.S. 31 to I-70; I-70: from I-65 to I-465: IN-37 from I-69 to Allisonville Road (Noblesville), Marion and Hamilton Counties, IN.

Summary: EPA has no objections to the preferred alternative. EPA does request that the Record of Decision provide clarification on monitoring spawning fish and wetland mitigation.

ERP No. F-FHW-G40175-TX TX-45 Highway Southeast Study, I-35 south at Farm-to-Market Road-1327 to TX-130/US 183, Local Regional Enhancements to the National Transportation Systems, Funding and Right-of-Way Permit Issuance, Travis County, TX.

Summary: EPA has no objections to the selection of the preferred alternative.

ERP No. FS-NRC-E06014-SC Generic EIS—License Renewal of Nuclear Plants, Supplement 13 regarding H.B. Robinsion Steam Electric Plant, Unit No. 2, Operating License Renewal for 20-Years, Site Specific, on the Shore of Lake Robinsion, Darlington and Chesterfield Counties, SC.

Summary: EPA expressed environmental concerns, and agreed with the NRC's proposal to require radiological monitoring of all plant effluents, and appropriate storage and disposition of radiological waste.

Dated: January 27, 2004.
Ken Mittelholtz,
Environmental Specialist, Office of Federal Activities.

[FR Doc. 04-2009 Filed 1-29-04; 8:45 am]
BILLING CODE 6560-50-P